INTERNATIONAL TRADE COMMISSION

[Investigation No. 731-TA-1557 (Final)]

Certain Mobile Access Equipment and Subassemblies Thereof From China; Supplemental Schedule for the Final Phase of Antidumping Duty Investigation

AGENCY: United States International Trade Commission.

ACTION: Notice.

DATES: February 22, 2022.

FOR FURTHER INFORMATION CONTACT: Alejandro Orozco ((202) 205-3177), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective July 30, 2021, the Commission established a general schedule for the conduct of the final phase of its countervailing duty and antidumping duty investigations on certain mobile access equipment and subassemblies thereof (“mobile access equipment”) from China, following a preliminary determination by the U.S. Department of Commerce (“Commerce”) that imports of subject mobile access equipment from China were subsidized by the government of China (86 FR 41013, July 30, 2021). Notice of the scheduling of the final phase of the Commission's investigations and of a public hearing held in connection therewith was given by posting copies of the notice in the Office of the Secretary, U.S. International Trade Commission, Washington, DC, and by publishing the notice in the Federal Register on August 12, 2021 (86 FR 44402). In light of the restrictions on access to the Commission building due to the COVID-19 pandemic, the Commission conducted its hearing through written testimony and video conference on October 12, 2021. All persons who requested the opportunity were permitted to participate.

Commerce issued a final affirmative countervailing duty determination with respect to mobile access equipment from China (86 FR 57809, October 19, 2021). The Commission subsequently issued its final determination that an industry in the United States is threatened with material injury by reason of imports of mobile access equipment from China provided for in subheadings 8427.10.80, 8427.20.80, 8427.90.00, and 8431.20.00 of the Harmonized Tariff Schedule of the United States (“HTSUS”) that have been found by Commerce to be subsidized by the government of China (86 FR 70147, December 9, 2021).

Commerce issued a final affirmative antidumping duty determination with respect to mobile access equipment from China (87 FR 9576, February 22, 2022). Accordingly, the Commission currently is issuing a supplemental schedule for its antidumping duty investigation on imports of mobile access equipment from China.

This supplemental schedule is as follows: The deadline for filing supplemental party comments on Commerce's final antidumping duty determination is March 7, 2022. Supplemental party comments may address only Commerce's final antidumping duty determination regarding imports of mobile access equipment from China. These supplemental final comments may not contain new factual information and may not exceed five (5) pages in length. The supplemental staff report in the final phase of the current investigation will be placed in the nonpublic record on March 16, 2022, and a public version will be issued thereafter.

For further information concerning these investigations see the Commission's notices cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov). No in-person paper-based filings or paper copies of any electronic filings will be accepted until further notice.

Authority: These investigations are being conducted under authority of title VII of the Tariff Act of 1930; this notice is published pursuant to section 207.21 of the Commission's rules.

By order of the Commission.
Issued: February 25, 2022.
Lisa Barton,
Secretary to the Commission.

[FR Doc. 2022-04396 Filed 3-1-22; 8:45 am]

BILLING CODE 7020-02-P